DEPARTMENT OF STATE

22 CFR Part 42

[Public Notice: 11105]

RIN 1400-AE55

Removal of Regulations Related to Immigrant Visas for Certain Expatriates

AGENCY: Department of State.

ACTION: Final rule.

SUMMARY: In accordance with Executive Orders 13771 and 13777, which direct federal agencies to review and eliminate outdated and unnecessary regulations, the Department of State (Department) is removing a regulation related to issuance of immigrant visas to women expatriates who lost citizenship as the result of marrying an alien prior to 1922.

DATES: This rule is effective on June 26, 2020.

FOR FURTHER INFORMATION CONTACT: Taylor Beaumont, Acting Chief, Legislation and Regulations Division, Legal Affairs, Office of Visa Services, Bureau of Consular Affairs, 600 19th Street NW, Washington, DC 20522, 202-485-8910, VisaRegs@state.gov.

SUPPLEMENTARY INFORMATION: The Department has identified a regulation relating to defunct immigrant visa classifications for certain former U.S. citizens that is unnecessary. As a result of Section 3 of the Act of March 2, 1907, 34 Stat. 1228, some U.S. citizen women lost their United States citizenship as a result of a marriage prior September 22, 1922. This provision was repealed by the Cable Act of 1922, 42 Stat. 1022.

Between 1907 and 1922, some U.S. citizen women lost their U.S. citizenship due to their marriage to an alien, or to a U.S. citizen who acquired another citizenship. Department regulations at 22 CFR 42.23(a) described an immigrant visa classification that was available to such women. The last visa issued in this category was issued in 1998, and it is unlikely that any person eligible for this category is still living. Therefore, the Department is removing this unnecessary regulation.

Regulatory Findings

Administrative Procedure Act

This rule is issued without prior notice and opportunity to comment, with an immediate effective date, pursuant to the Administrative Procedure Act (APA), 5 U.S.C. 553(b) and (d). Under 5 U.S.C. 553(b)(B), agencies are exempt from notice and comment rulemaking when an agency finds for good cause that “notice and public procedures are impracticable, unnecessary, or contrary to the public interest.” The APA also authorizes agencies to dispose of a 30-day delay in effective date and make a rule effective immediately upon a showing of good cause. 5 U.S.C. 553(d)(3). The Department finds that good cause exists both to waive prior notice and comment and the 30-day delay of effective date on this rule because both are unnecessary. The last visa issued within this category was in 1998, and it is unlikely that eligible invdividualsindividuals are still living, making this rule both outdated and unnecessary. As a result, removal of this rule is insignificant in nature and impact, and inconsequential to the public. Therefore, in accordance with 5 U.S.C. 553(b) and (d), this rule is effective immediately and is not subject to the notice-and-comment rule making procedures set forth in 5 U.S.C. 553.

Regulatory Flexibility Act/Executive Order 13272: Small Business

Because this final rule is exempt from notice and comment rulemaking under 5 U.S.C. 553, it is exempt from the regulatory flexibility analysis requirements set forth by the Regulatory Flexibility Act (5 U.S.C. 603 and 604).

Unfunded Mandates Reform Act of 1995

This rule will not result in the expenditure by State, local, and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined in 5 U.S.C. 804, for purposes of congressional review of agency rulemaking under the Small Business Regulatory Enforcement Fairness Act of 1996. This rule will not result in an annual effect on the economy of $100 million or more; a major increase in costs or prices; or adverse effects on competition, employment, investment, productivity, innovation, or the ability of United States-based companies to compete with foreign-based companies in domestic and import markets.

Executive Order 12866 and 13771: Reducing Regulation and Controlling Regulatory Costs

The Department does not consider this rule to be a “significant regulatory action” under Executive Order 12866, section 3(f), Regulatory Planning and Review. The Department has nevertheless reviewed the regulation to ensure its consistency with the regulatory philosophy and principles set forth in that Executive Order with the guidance therein. This rule withdraws defunct regulations and will not impose any costs on the public. This rule is an E.O. 13771 deregulatory action.

Executive Orders 12372 and 13132: Federalism

This regulation will not have substantial direct effects on the States, on the relationship between the national government and the States, or the distribution of power and responsibilities among the various levels of government. Nor will the rule have federalism implications warranting the application of Executive Orders 12372 and 13132.

Executive Order 13175: Consultation and Coordination With Indian Tribal Governments

The Department has determined that this rulemaking will not have tribal implications, will not impose substantial direct compliance costs on Indian tribal governments, and will not preempt tribal law. Accordingly, the requirements of Section 5 of Executive Order 13175 do not apply to this rulemaking.

Paperwork Reduction Act

This rulemaking does not impose or revise any reporting or record-keeping requirements subject to the Paperwork Reduction Act, 44 U.S.C. chapter 35.

List of Subjects in 22 CFR Part 42

Aliens, Immigrants, Passports, Visas.

Accordingly, for the reasons set forth in the preamble, 22 CFR part 42 is amended as follows:

PART 42—VISAS: DOCUMENTATION OF IMMIGRANTS UNDER THE IMMIGRATION AND NATIONALITY ACT, AS AMENDED

1. The authority citation for part 42 continues to read as follows:

Authority: 8 U.S.C. 1104 and 1182; Pub. L. 105-277; Pub. L. 108-449; 112 Stat. 2681-795 through 2681-801; The Convention on Protection of Children and Co-operation in Respect of Intercountry Adoption (done at the Hague, May 29, 1993), S. Treaty Doc. 105-51 (1998), 1870 U.N.T.S. 167 (Reg. No. 31922 (1993)); 42 U.S.C. 14901-14954, Pub. L. 106-279; Pub. L. 111-287; 8 U.S.C. 1101, 124 Stat. 3058; 8 U.S.C. 1154, Pub. Law 109-162.

§ 42.23 [Amended]

2. Amend § 42.23 by removing and reserving paragraph (a).

* * * * *

Carl C. Risch,
Assistant Secretary, Consular Affairs, Department of State.

[FR Doc. 2020-12647 Filed 6-25-20; 8:45 am]

BILLING CODE 4710-06-P